DEPARTMENT OF THE INTERIOR

National Park Service

Notice of Extension of the Public Comment Period, Draft Environmental Impact Statement (DEIS) Colorado River Management Plan (CRMP) of Grand Canyon National Park

AGENCY: National Park Service, Department of the Interior.

SUMMARY: This notice informs the public that the comment period for the Draft Environmental Impact Statement for the Colorado River Management Plan is extended.

DATES: The comment period for the draft EIS has been extended three weeks from the published date of the Notice of Availability. The extended deadline is February 1, 2004.

ADDRESSES: Address comments and requests for more information to: Superintendent, Grand Canyon National Park, Attn: CRMP Comments, P.O. Box 129, Grand Canyon, Arizona 86023, via e-mail at grca_crmp@nps.gov or visit the Web site at http://www.nps.gov/crca/crmp.

FOR FURTHER INFORMATION CONTACT: Rick Ernenwein at (928) 779-6279 or Mary Killeen at (928) 638-7885.

SUPPLEMENTARY INFORMATION: The authority to revise the Colorado River Management Plan (CRMP) came as a result of a year-long negotiation to settle a lawsuit filed against the Park in U.S. District Court in Arizona in July, 2000. The settlement agreement directed the NPS to address specific issues including allocation of use between commercial and non-commercial users, and level of motorized rafting use. Given the complexity of the document and the intense level of interest, the comment period is being extended. The Park Service published the Notice of Availability of the Draft EIS in the Federal Register of October 1, 2004 (Vol. 69, No. 190). The notice stated that the Draft EIS would remain available for 90 days from the publication of the notice. The Park Service published the Notice of Availability in the EPA Federal Register Environmental Documents on October 8, 2004 (EIS No. 040465).

Dated: December 21, 2004.
Kate Cannon,
Deputy Superintendent, Grand Canyon National Park.

[FR Doc. 05-609 Filed 1-10-04; 8:45 am]

BILLING CODE 4310-70-M